DEPARTMENT OF ENERGY

Federal Energy Regulatory Commission

[Project No. 15146-000]

Hydropower Highway LLC; Notice of Preliminary Permit Application Accepted for Filing and Soliciting Comments, Motions To Intervene, and Competing Applications

On May 13, 2021, Hydropower Highway LLC filed an application for a preliminary permit, pursuant to section 4(f) of the Federal Power Act, proposing to study the feasibility of the proposed Camp Pendleton Pumped Storage Hydro Project (Camp Pendleton Project), a hydropower project proposed to be located on the coast of the Pacific Ocean, partially within Marine Corps Base Camp Pendleton, in San Diego County, California. The sole purpose of a preliminary permit, if issued, is to grant the permit holder priority to file a license application during the permit term. A preliminary permit does not authorize the permit holder to perform any land-disturbing activities or otherwise enter upon lands or waters owned by others without the owners' express permission.

The proposed project would consist of the following new facilities: (1) an 850-foot-high lined earthen dam with a crest elevation of approximately 800 feet above mean sea level (msl); (2) a 515-acre upper reservoir having a total storage capacity of approximately 12,763 acre-feet at a normal maximum operating elevation of 750 feet msl; (3) up to ten 14,300-foot-long, steel-lined underground penstocks between the upper reservoir and the powerhouse; (4) a powerhouse containing 10 advanced ternary pumped storage single runner turbine-generator units rated for 520 megawatts; (5) a 2,000-foot-long tailrace connecting the powerhouse to the Pacific Ocean; (6) a transmission line, for which the point of interconnection with the grid would be determined under the permit; and (7) appurtenant facilities. The lower reservoir for the proposed project would be the Pacific Ocean. The estimated annual generation of the Camp Pendleton Project would be 1,926,470 megawatt-hours.

Applicant Contact: Adam Rousselle Sr., 2113 Middle Street, Suite 201, Sullivans Island, South Carolina 29482; Phone: 267-254-6107.

FERC Contact: Everard Baker at 202-502-8554 or everard.baker@ferc.gov.

Deadline for filing comments, motions to intervene, competing applications (without notices of intent), or notices of intent to file competing applications: 60 days from the issuance of this notice. Competing applications and notices of intent must meet the requirements of 18 CFR 4.36.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

The Commission strongly encourages electronic filing. Please file comments, motions to intervene, notices of intent, and competing applications using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. The first page of any filing should include docket number P-15146-000.

More information about this project, including a copy of the application, can be viewed or printed on the “eLibrary” link of the Commission's website at https://elibrary.ferc.gov/eLibrary/search. Enter the docket number (P-15146) in the docket number field to access the document. For assistance, contact FERC Online Support.

Dated: February 21, 2025.
Debbie-Anne A. Reese,
Secretary.

[FR Doc. 2025-03190 Filed 2-26-25; 8:45 am]

BILLING CODE 6717-01-P